COMMITTEE FOR PURCHASE FROM PEOPLE WHO ARE BLIND OR SEVERELY DISABLED

Procurement List; Additions and Deletions

AGENCY: Committee For Purchase From People Who Are Blind Or Severely Disabled.

ACTION: Additions to and deletions from Procurement List.

SUMMARY: This action adds to the Procurement List a product and a service to be furnished by nonprofit agencies employing persons who are blind or have other severe disabilities, and deletes from the Procurement List products and services previously furnished by such agencies.

EFFECTIVE DATE: November 6, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On July 29, and August 5, 2005, the Committee for Purchase From People Who Are Blind or Severely Disabled published notice (70 FR 43840, and 45366) of proposed additions to the Procurement List.

After consideration of the material presented to it concerning capability of qualified nonprofit agencies to provide the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following products and services are added to the Procurement List:

Product

Tape, Baggage Inspection

NSN: 7510-00-NIB-0673—2Prime; (inches) wide by 110 yards long

NPA: Cincinnati Association for the Blind, Cincinnati, Ohio

Contracting Activity: Transportation Security Administration, Arlington, Virginia.

Service

Service Type/Location: Document Destruction, NARA—Pacific Alaska Region, 6125 Sand Point Way, NE., Seattle, Washington

NPA: Northwest Center for the Retarded, Seattle, Washington

Contracting Activity: National Archives & Records Administration, College Park, Maryland.

Deletions

On July 29, 2005, August 5, and August 12, 2005, the Committee for Purchase From People Who Are Blind or Severely Disabled published notice (70 FR 43841, 45366, and 47175) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Card Set, Guide, File

NSN: 7530-00-261-3801—Card Set, Guide, File

NSN: 7530-00-261-3804—Card Set, Guide, File

NSN: 7530-00-261-3813—Card Set, Guide, File

NSN: 7530-00-261-3818—Card Set, Guide, File

NSN: 7530-00-261-3819—Card Set, Guide, File

NSN: 7530-00-249-5969—Card Set, Guide, File

NPA: Georgia Industries for the Blind, Bainbridge, Georgia.

Contracting Activity: Office Supplies & Paper Products Acquisition Center, New York, NY.

Services

Service Type/Location: Dispatcher, Federal Building, 222 West 7th Avenue, Anchorage, Alaska.

NPA: Portland Habilitation Center, Inc., Portland, Oregon.

Contracting Activity: General Services Administration.

Service Type/Location: Grounds Maintenance, Federal Aviation Administration Air Route Traffic, Auburn, Washington.

NPA: None currently authorized.

Contracting Activity: Department of Transportation.

Service Type/Location: Janitorial/Custodial, Hill City Office and Shop, Hill City, South Dakota.

NPA: Southern Hills Developmental Services, Inc., Hot Springs, South Dakota.

Contracting Activity: Department of Interior, Reston, Virginia.

Service Type/Location: Janitorial/Custodial, Naval Reserve Center, Fort Harrison, South Avenue, Helena, Montana.

NPA: Helena Industries, Inc., Helena, Montana.

Contracting Activity: Department of the Navy.

Service Type/Location: Janitorial/Custodial, U.S. Fish & Wildlife Service, Bosque del Apache National Wildlife Refuge, Socorro, New Mexico.

NPA: Tresco, Inc., Las Cruces, New Mexico.

Contracting Activity: Department of Interior, Reston, Virginia.

Service Type/Location: Janitorial/Custodial, Umatilla Depot Activity, Hermiston, Oregon.

NPA: None currently authorized.

Contracting Activity: Department of the Army.

Sheryl D. Kennerly,
Director, Information Management.

[FR Doc. E5-5538 Filed 10-6-05; 8:45 am]

BILLING CODE 6353-01-P